DEPARTMENT OF TRANSPORTATION

[Docket No. DOT-OST-2019-0028]

Notice of Request for Clearance of a Revision a Currently Approved Information Collection: National Census of Ferry Operators

AGENCY: Bureau of Transportation Statistics (BTS) Office of the Assistant Secretary for Research and Technology (OST-R), DOT.

ACTION: Notice and request for comments.

SUMMARY: In accordance with the requirements of section 3506(c)(2)(A) of the Paperwork Reduction Act of 1995, this notice announces the intention of the BTS to request the Office of Management and Budget's (OMB's) approval for new iterations of an on-going biennial information collection related to the nation's ferry operations. The information collected from each Census will be used to produce a descriptive database of existing ferry operations. A summary report of survey findings will also be published by BTS on the BTS web page: www.bts.gov/ncfo.

DATES: Comments must be submitted on or before April 23, 2019.

ADDRESSES: You may submit comments identified by DOT Docket ID Number DOT-OST-2019-0028 to the U.S. Department of Transportation (DOT), Dockets Management System (DMS). You may submit your comments by mail or in person to the Docket Clerk, Docket No., U.S. Department of Transportation, 1200 New Jersey Ave. SE, West Building Room W12-140, Washington, DC 20590. Comments should identify the docket number as indicated above. Paper comments should be submitted in duplicate. The DMS is open for examination and copying, at the above address, from 9 a.m. to 5 p.m., Monday through Friday, except Federal holidays. If you wish to receive confirmation of receipt of your written comments, please include a self-addressed, stamped postcard with the following statement: “Comments on Docket DOT-OST-2019-0028.” The Docket Clerk will date stamp the postcard prior to returning it to you via the U.S. mail. Please note that due to delays in the delivery of U.S. mail to Federal offices in Washington, DC, we recommend that persons consider an alternative method (the internet, fax, or professional delivery service) to submit comments to the docket and ensure their timely receipt at U.S. DOT. You may fax your comments to the DMS at (202) 493-2251. Comments can also be viewed and/or submitted via the Federal Rulemaking Portal: http://www.regulations.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://www.gpoaccess.gov/fr/.

FOR FURTHER INFORMATION CONTACT: Janine L. McFadden, (202) 366-2468, NCFO Project Manager, BTS, OST-R, Department of Transportation, 1200 New Jersey Ave. SE, Room E32-316, Washington, DC 20590. Office hours are from 8:00 a.m. to 5:30 p.m., E.T., Monday through Friday, except Federal holidays.

SUPPLEMENTARY INFORMATION: Title: National Census of Ferry Operators (NCFO)

Background: The Transportation Equity Act for the 21st Century (TEA-21) (Pub. L. 105-178), section 1207(c), directed the Secretary of Transportation to conduct a study of ferry transportation in the United States and its possessions. In 2000, the Federal Highway Administration (FHWA) Office of Intermodal and Statewide Planning conducted a survey of approximately 250 ferry operators to identify: (1) Existing ferry operations including the location and routes served; (2) source and amount, if any, of funds derived from Federal, State, or local governments supporting ferry construction or operations; (3) potential domestic ferry routes in the United States and its possessions and to develop information on those routes; and (4) potential for use of high speed ferry services and alternative-fueled ferry services. The Safe, Accountable, Flexible Efficient Transportation Equity Act—A Legacy for Users (SAFETEA-LU) Pub. L. 109-59, Section 1801(e)) required that the Secretary, acting through the BTS, shall establish and maintain a national ferry database containing current information regarding routes, vessels, passengers and vehicles carried, funding sources and such other information as the Secretary considers useful. MAP-21 legislation [Moving Ahead for Progress in the 21st Century Act (Pub. L. 112-141),] continued the BTS mandate to conduct the NCFO and also required that the Federal Highway Administration (FHWA) use the NCFO data to set the specific formula for allocating federal ferry funds. The funding allocations were based on a percentage of the number of passenger boardings, vehicle boardings, and route miles served.

BTS conducted the first Census of Ferry Operators in 2006, and again in 2008, 2010, 2014, 2016 and 2018, and plans are underway for the conduct of the next NCFO in the Spring of 2020. These information collections were originally approved by OMB under Control Number 2139-0009.

The recently enacted FAST Act legislation [Fixing America's Surface Transportation Act (Pub. L. 114-94, sec. 1112)] continues the BTS mandate to conduct the NCFO on a biennial basis, and extended the requirement that the Federal Highway Administration (FHWA) use the NCFO data to set the specific formula for allocating federal ferry funds based on a percentage of the number of passenger boardings, vehicle boardings, and route miles served. The overall length of the revised questionnaire for the 2020 NCFO will remain consistent with that of previous years.

The survey will be administered to the entire population of ferry operators (estimate of 250 or less). The survey will request the respondents to provide information such as: the points served; the type of ownership; the number of passengers and vehicles carried in the past 12 months; vessel descriptions (including type of fuel), federal, state and local funding sources, and intermodal connectivity. All data collected in 2020 will be added to the existing NCFO database.

Respondents: The target population for the survey will be all of the approximately 250 ferry operators existing in the United States.

Estimated Average Burden per Response: The burden per respondent is estimated to be an average of 30 minutes. This average is based on an estimate of 20 minutes to answer new questions and an additional 10 minutes to review (and revise as needed) previously submitted data that will be pre-populated for each ferry operation.

Estimated Total Annual Burden: The total annual burden (in the year that the survey is conducted) is estimated to be just under 125 hours (that is 30 minutes per respondent for 250 respondents equals 7,500 minutes).

Frequency: This survey will be updated every other year.

Public Comments Invited: Interested parties are invited to send comments regarding any aspect of this information collection, including, but not limited to: (1) The necessity and utility of the information collection for the proper performance of the functions of the DOT; (2) the accuracy of the estimated burden; (3) ways to enhance the quality, utility, clarity and content of the collected information; and (4) ways to minimize the collection burden without reducing the quality of the collected information. Comments submitted in response to this notice will be summarized and/or included in the request for OMB's clearance of this information collection.

Authority: The Transportation Equity Act for the 21st Century, P.L. 105-178, section 1207(c), The Safe, Accountable, Flexible Efficient Transportation Equity Act—A Legacy for Users (SAFETEA-LU), P.L. 109-59, Moving Ahead for Progress in the 21st Century Act (MAP-21), P.L. 112-141, 49 CFR 1.46, and Fixing America's Surface Transportation Act (FAST Act), P.L. 114-94, sec. 1112.

Issued in Washington, DC on the 14th of February 2019.
Patricia Hu,
Director, Bureau of Transportation Statistics, Office of the Assistant Secretary for Research and Technology.

[FR Doc. 2019-03080 Filed 2-21-19; 8:45 am]

BILLING CODE 4910-9X-P